SMALL BUSINESS ADMINISTRATION

[Accretive Investors SBIC, L.P.; License No. 02/72-0627]

Notice Seeking Exemption Under Section 312 of the Small Business Investment Act, Conflicts of Interest

Notice is hereby given that Accretive Investors SBIC, L.P., 55 East 59th Street 22nd Floor, New York, NY 10022, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Accretive Investors SBIC, L.P. proposes to provide debt financing to 2007 Apollo Holding Corp. which owns 100% of the outstanding stock of operating company AlphaStaff Group, Inc., 800 Corporate Drive, Suite 800, Fort Lauderdale, FL 33301.

The financing is brought within the purview of § 107.730 of the Regulations because Accretive II, LP and Accretive II Coinvestment, L.P., Associates of Accretive Investors SBIC, L.P., each own more than ten percent of Apollo Holding Corp. Also, the proposed investment by Accretive Investors SBIC, L.P. will be part of a larger pool of funds that will relieve a potential funding obligation of Accretive II GP, LLC, which is an Associate of Accretive Investors SBIC, L.P.

Therefore, this transaction is considered a financing of an Associate and a self-deal pursuant to 13 CFR 107.730 and requires an exemption. Notice is hereby given that any interested person may submit written comments on the transaction within fifteen days of the date of this publication to Associate Administrator for Investment, U.S. Small Business Administration, 409 Third Street SW., Washington, DC 20416.

Dated: July 9, 2012.
Sean J. Greene,
Associate Administrator for Investment.

[FR Doc. 2012-17446 Filed 7-17-12; 8:45 am]

BILLING CODE P